NATIONAL ARCHIVES AND RECORDS ADMINISTRATION

[NARA-2022-026]

Agency Information Collection Activities: Submission for OMB Review; Comment Request

AGENCY: National Archives and Records Administration (NARA).

ACTION: Notice.

SUMMARY: We have submitted a request to the Office of Management and Budget (OMB) for approval to continue to use a currently approved information collection. Independent researchers use OMB 3095-0054, Independent Researchers Listing Application (NA Form 14115), to provide their contact information so we can make the information available to people looking for a researcher. We invite you to comment on this proposed information collection.

DATES: OMB must receive written comments on or before March 4, 2022.

ADDRESSES: Send any comments and recommendations on the proposed information collection in writing to www.reginfo.gov/public/do/PRAMain. You can find this particular information collection by selecting “Currently under 30-day Review—Open for Public Comments” or by using the search function.

FOR FURTHER INFORMATION CONTACT: Tamee Fechhelm, Paperwork Reduction Act Officer, by email at tamee.fechhelm@nara.gov or by telephone at 301.837.1694 with any requests for additional information.

SUPPLEMENTARY INFORMATION: Pursuant to the Paperwork Reduction Act of 1995 (Pub. L. 104-13), we invite the public and other Federal agencies to comment on proposed information collections. We published a notice of proposed collection for this information collection on November 23, 2021 (86 FR 66595) and we received no comments. We are therefore submitting the described information collections to OMB for approval.

If you have comments or suggestions, they should address one or more of the following points: (a) Whether the proposed information collection is necessary for NARA to properly perform its functions; (b) our estimate of the burden of the proposed information collection and its accuracy; (c) ways we could enhance the quality, utility, and clarity of the information we collect; (d) ways we could minimize the burden on respondents of collecting the information, including through information technology; and (e) whether this collection affects small businesses.

In this notice, we solicit comments concerning the following information collection:

Title: Independent researcher listing application.

OMB number: 3095-0054.

Agency form numbers: NA Form 14115 (Independent Researcher Listing Application).

Type of review: Regular.

Affected public: Individuals or households.

Estimated number of respondents: 300.

Estimated time per response: 10 minutes.

Frequency of response: On occasion.

Estimated total annual burden hours: 50 hours.

Abstract: Collecting information to populate the independent researcher application listing is a service we provide to researchers and those who wish to hire them. In the past, at the request of customers, the National Archives made use of various lists of independent researchers who perform freelance research for hire in the Washington, DC, area. We sent these lists upon request to researchers who could not travel to the metropolitan area to conduct their own research. To better accommodate both the public and NARA staff in this process, the Archival Operations division of the National Archives began to maintain a listing of independent researchers who wished to participate. To populate that list, we allow interested independent researchers to provide their contact information for this purpose on NA Form 14115. Collecting contact and other key information from each independent researcher and providing such information to the public when appropriate increases researcher business. This form is voluntary and is not a burden to an independent researcher who chooses to submit one. Inclusion on the list is not an endorsement by NARA. The listing is compiled and disseminated as a service to the public.

Swarnali Haldar,
Executive for Information Services/CIO.

[FR Doc. 2022-02097 Filed 2-1-22; 8:45 am]

BILLING CODE 7515-01-P